INTERNATIONAL TRADE COMMISSION

[Inv. No. 337-TA-649]

In the Matter of Certain Semiconductor Chips With Minimized Chip Package Size and Products Containing Same (IV), Notice of Commission Determination Not To Review an Initial Determination Granting Motion To Amend the Complaint and Notice of Investigation and Extending the Target Date

AGENCY: U.S. International Trade Commission.

ACTION: Notice.

SUMMARY: Notice is hereby given that the U.S. International Trade Commission has determined not to review the presiding administrative law judge's (“ALJ”) initial determination (“ID”) (Order No. 11), granting complainant's motion to amend the Complaint and Notice of Investigation and extending the target date for completion of the investigation to December 7, 2009.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: On May 28, 2008, the Commission instituted an investigation under section 337 of the Tariff Act of 1930, 19 U.S.C. 1337, based on a complaint filed by Tessera, Inc. of San Jose, California (“Tessera”), alleging a violation of section 337 in the importation, sale for importation, and sale within the United States after importation of certain semiconductor chips with minimized chip package size and products containing same that infringe certain claims of U.S. Patents Nos. 5,852,326; 6,433,419; and 5,679,977. 73 FR 30628 (May 28, 2008). The complainant named as respondents Siliconware Precision Industries Co, Ltd. of Tachung, Taiwan and Siliconware U.S.A., Inc. of San Jose, California (collectively “Siliconware”); ChipMOS Technologies (Bermuda) Ltd. of Hsinchu, Taiwan and ChipMOS U.S.A., Inc. of San Jose, California (collectively “ChipMOS”); ASE, Inc. of Kaohsiung, Taiwan, ASE Test Limited of Kaohsiung, Taiwan, and ASE (U.S.), Inc. of Santa Clara, California (collectively “ASE”); and STATS ChipPAC Ltd. of Techpoint, Singapore, STATS ChipPAC (BVI) Limited of Tortola, British Virgin Islands, and STATS ChipPAC, Inc. of Freemont, California (collectively “STATS”).

On October 8, 2008, Tessera filed an emergency motion to amend the Complaint and Notice of Investigation to add U.S. Patent No. 5,663,106. On October 20, 2008, Siliconware and ChipMOS filed a response opposing the motion, ASE filed a separate response opposing the motion, and STATS filed a response joining Siliconware and ChipMOS's opposition. The Commission investigative attorney filed a response, also on October 20, 2008, in support of the motion.

On October 29, 2008, the ALJ issued the subject ID, granting Tessera's motion to amend the Complaint and Notice of Investigation, and extending the target date for completion of the investigation to December 7, 2009. No petitions for review of this ID were filed.

The Commission has determined not to review the ID.

The authority for the Commission's determination is contained in section 337 of the Tariff Act of 1930, as amended (19 U.S.C. 1337), and in section 210.42 of the Commission's Rules of Practice and Procedure (19 CFR 210.42).

Issued: November 18, 2008.
By order of the Commission.
William R. Bishop,
Acting Secretary to the Commission.

[FR Doc. E8-27733 Filed 11-20-08; 8:45 am]

BILLING CODE 7020-02-P